SECURITIES AND EXCHANGE COMMISSION

[Rule 17g-4; SEC File No. 270-566; OMB Control No. 3235-0627]

Proposed Collection; Comment Request

Upon Written Request, Copies Available From: U.S. Securities and Exchange Commission, Office of Investor Education and Advocacy, Washington, DC 20549-0213.

Notice is hereby given that, pursuant to the Paperwork Reduction Act of 1995 (44 U.S.C. 3501 et seq.), the Securities and Exchange Commission (“Commission”) is soliciting comments on the existing collection of information provided for in Rule 17g-4 (17 CFR 240.17g-4) under the Securities Exchange Act of 1934 (15 U.S.C. 78a et seq.) (“Exchange Act”).

The Rating Agency Act added a new Section 15E, “Registration of Nationally Recognized Statistical Rating Organizations,” ¹ to the Exchange Act. Rule 17g-4 requires that a Nationally Recognized Statistical Rating Organization (“NRSRO”) has written policies and procedures to prevent the misuse of material nonpublic information including: procedures designed to prevent the inappropriate dissemination of material nonpublic information obtained in connection with the performance of credit rating services; procedures designed to prevent a person associated with the rating organization from trading on material nonpublic information; and procedures designed to prevent the inappropriate dissemination of a pending credit rating.²

¹ 15 U.S.C. 78o-7.

² See Rule 17g-4. Release No. 34-55231 (Feb. 2, 2007), 72 FR 6378 (Feb. 9, 2007); and Release No. 34-55857 (June 5, 2007), 72 FR 33564 (June 18, 2007).

It is anticipated that 30 credit rating agencies will register with the Commission as NRSROs under Section 15E of the Exchange Act. The Commission estimates that it will take approximately 50 hours for an NRSRO to establish procedures in conformance with Rule 17g-4 for a total one-time burden for the 30 credit rating agencies the Commission estimates will register as NRSROs of 1,500 hours.³

³ 50 hours × 30 NRSROs = 1,500 hours.

Written comments are invited on: (a) Whether the collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Comments should be directed to Charles Boucher, Director/Chief Information Officer, Securities and Exchange Commission, C/O Shirley Martinson, 6432 General Green Way, Alexandria, Virginia 22312 or send an e-mail to: PRA_Mailbox@sec.gov.

Dated: January 13, 2010.
Florence E. Harmon,
Deputy Secretary.

[FR Doc. 2010-1021 Filed 1-20-10; 8:45 am]

BILLING CODE 8011-01-P